POSTAL SERVICE

International Product Change—Inbound International Expedited Services 1

AGENCY: Postal Service™.

ACTION: Notice.

SUMMARY: The Postal Service gives notice of filing a request with the Postal Regulatory Commission to add Inbound International Expedited Services 1 to the Competitive Product List pursuant to 39 U.S.C. 3642.

DATES: December 2, 2009.

FOR FURTHER INFORMATION CONTACT: Margaret M. Falwell, 703-292-3576.

SUPPLEMENTARY INFORMATION: The United States Postal Service® hereby gives notice that it has filed with the Postal Regulatory Commission a Request to Add Inbound International Expedited Services 1 to the Competitive Product List, and Notice of United States Postal Service of Filing China Post Group—United States Postal Service Contractual Bilateral Agreement (Under Seal). Documents are available at http://www.prc.gov, Docket Nos. MC2010-13 and CP2010-12.

Neva R. Watson,
Attorney, Legislative.

[FR Doc. E9-28830 Filed 12-1-09; 8:45 am]

BILLING CODE 7710-12-P